DEPARTMENT OF THE INTERIOR

Bureau of Indian Affairs

Indian Gaming

AGENCY: Bureau of Indian Affairs, Interior.

ACTION: Notice of Approved Tribal-State Class III Gaming Amendments.

SUMMARY: This notice publishes approval of an Agreement to Amend the Class III Tribal-State Gaming Compact between the Salt River Pima-Maricopa Indian Community and the State of Arizona (Amendment).

DATES: Effective Date: June 4, 2013.

FOR FURTHER INFORMATION CONTACT: Paula L. Hart, Director, Office of Indian Gaming, Office of the Deputy Assistant Secretary—Policy and Economic Development, Washington, DC 20240, (202) 219-4066.

SUPPLEMENTARY INFORMATION: Under section 11 of the Indian Gaming Regulatory Act (IGRA), Public Law 100-497, 25 U.S.C. 2701et seq., the Secretary of the Interior shall publish in the Federal Register notice of approved Tribal-State compacts for the purpose of engaging in Class III gaming activities on Indian lands. The Amendment consists of clarifications and minor changes to various sections of the current compact. The Amendment also modifies the frequency of the Tribe's payments to the State or local governments.

Dated: May 28, 2013.
Kevin K. Washburn,
Assistant Secretary—Indian Affairs.

[FR Doc. 2013-13262 Filed 6-3-13; 8:45 am]

BILLING CODE 4310-4N-P